DEPARTMENT OF COMMERCE

National Oceanic and Atmospheric Administration

National Ocean Service

[Docket No. 021226332-2332-01; I.D. 121202C]

Coral Reef Conservation Grant Program Fiscal Year 2003 Funding Guidance

AGENCY: National Marine Fisheries Service (NMFS), National Ocean Service (NOS), Commerce.

ACTION: Notice of Availability of Federal assistance for coral reef conservation activities.

SUMMARY: This document advises the public that the National Oceanic and Atmospheric Administration (NOAA) is soliciting proposals for the NOAA Coral Reef Conservation Grant Program (Program), pursuant to the Coral Reef Conservation Act of 2000 (Act). The Act authorizes the Secretary of Commerce (Secretary), through the NOAA Administrator (Administrator), and subject to the availability of funds, to provide matching grants of financial assistance for coral reef conservation projects under the Program. This document provides the specific Fiscal Year (FY) 2003 Funding Guidance (Guidance) necessary to award $5,590,000 in Federal assistance, of which NOAA is providing $5,240,000 and the Department of the Interior (DOI)is providing $350,000, consistent with the NOAA Coral Reef Conservation Grant Program Implementation Guidelines (Guidelines) published in the Federal Register on Friday, April 19, 2002. The Guidelines can be found at http://www.coralreef.noaa.gov/. The information published in this Guidance includes: specific program eligibility criteria, Funding Availability, proposal submittal and selection dates, and detailed application requirements and Application Evaluation criteria. All applications submitted pursuant to this notice must be consistent with the requirements stated herein, the Guidelines, and with “A National Coral Reef Action Strategy” (Strategy), completed in September 2002. The Strategy can also be found at: http://www.coralreef.noaa.gov/. Applicants may also request copies of the Strategy from the contacts listed below. Funding will be subject to the availability of federal appropriations.

DATES: Applications must be received by NOAA before 5 P.M. Eastern Time on the dates specified below. Initial applications can be submitted by either electronic mail (e-mail) or surface mail; however, one original and two signed copies of the final application must be submitted by surface mail. Applicants should consider the delivery time when submitting their applications from international or remote areas. NOAA intends to provide funding to selected applicants no later than September 30, 2003. The following review and selection timetable applies to all applications under the Program, except the Coral Reef Research Ecosystem Program (see section IV):

Initial Applications due to NOAA-March 14, 2003

NOAA returns proposal comments to applicants-May 9, 2003

Final Applications due to NOAA-June 6, 2003

The NOAA Grants Officer will provide written notice to each successful applicant with written notice of the final funding selection on or before September 30, 2003. It is the goal of the NOAA Program Officer to also provide notice to each unsuccessful applicant before September 30, 2003.

ADDRESSES: Initial applications may be submitted by surface mail or e-mail. Submissions by e-mail are preferred. If submitting by surface mail, applicants are encouraged to include a copy of the initial application in electronic format on disk or cd and mail both to: David Kennedy, NOAA Coral Reef Conservation Program Coordinator, Office of Response and Restoration, N/ORR, Room 10102, NOAA National Ocean Service, 1305 East-West Highway, Silver Spring, MD 20910. Applications submitted by e-mail must be sent to coral.grants@noaa.gov. Fax submittals will not be accepted except for the International Coral Reef Conservation proposals, Section VII (Fax: 301-713-4389).

FOR FURTHER INFORMATION CONTACT: Administrative questions should be directed to Bill Millhouser, 301-713-3155, extension 189 or e-mail at bill.millhouser@noaa.gov.

Technical point of contact for State and Territory Coral Reef Management is Bill Millhouser, 301-713-3155, extension 189 or e-mail at bill.millhouser@noaa.gov.

Technical point of contact for State and Territory Coral Reef Ecosystem Monitoring is John Christensen, 301-713-3028, extension 153 or e-mail at john.christensen@noaa.gov.

Technical point of contact for Coral Reef Ecosystem Research is Kimberly Puglise, 301-713-2427, extension 199 or e-mail at kimberly.puglise@noaa.gov.

Technical point of contact for General Coral Reef Conservation is Tom Hourigan, 301-713-3459, extension 122 or e-mail at tom.hourigan@noaa.gov.

Technical point of contact for Projects to Improve or Amend Coral Reef Fishery Management Plans is Tom Hourigan, 301-713-3459, extension 122 or e-mail at tom.hourigan@noaa.gov.

Technical point of contact for International Coral Reef Conservation is Arthur Paterson, 301-713-3078, extension 217 or e-mail at arthur.e.paterson@noaa.gov.

For general information on NOAA's Coral Reef Conservation Program, contact Roger Griffis, 301-713-3989, extension 115 or e-mail at roger.b.griffis@noaa.gov.

SUPPLEMENTARY INFORMATION: NOAA announces the availability of $5,590,000 of Federal assistance in FY 2003 for Coral Conservation Activities. NOAA is providing $5,240,000 and DOI is providing $350,000. These funds will be used to support grants of financial assistance under the following six program categories: State and Territory Coral Reef Management; State and Territory Coral Reef Ecosystem Monitoring; Coral Reef Ecosystem Research; Coral Reef Conservation; Projects to Improve or Amend Coral Reef Fishery Management Plans; and International Coral Reef Conservation.

Please Note: The Coral Reef Ecosystem Research Program mentioned here will solicit proposals through NOAA's Undersea Research Program (NURP) on a different schedule than described in this Guidance. Applicants interested in submitting applications for coral research should consult section IV. Coral Reef Ecosystem Research.

The amount of funds available and the application requirements for each program category are established in Sections II - VII of this notice. In addition to this specific program information, all applicants should carefully read section VIII. General Information for All Applicants.

For applications submitted in electronic format, the preferred format is Adobe Acrobat (.PDF); however, WordPerfect or Microsoft Word files are acceptable. All applications must meet the information and formatting requirements specified in this Guidance. Federal financial assistance forms are not required to be submitted with the initial application; however, one original and two signed copies must be submitted with the final application.

Each application must include a cover sheet with the following information:

(a) Project title;

(b) Applicant organization;

(c) Principal investigator or contact;

(d) Contact information including address, phone and fax numbers, and e-mail address;

(e) Program category (see SUPPLEMENTARY INFORMATION, below);

(f) Geographic location of the project;

(g) Amount of grant funds requested;

(h) Amount of matching funds provided; and,

(i) Concise paragraph project summary.

NOAA will select projects based on a review of applications pursuant to criteria contained in the Guidelines, the Strategy, and this Guidance. In addition, each program office will ensure where appropriate in their evaluation criteria, commitment to effective education and outreach consistent with NOAA's mission to protect coral reef resources. Selected recipients will enter into either a cooperative agreement with the NOAA Office responsible for the program or receive a grant depending upon the amount of NOAA's involvement in the project. Substantial involvement means a cooperative agreement, while independent work requires a grant. Examples of substantial involvement include:

(1) Requirements that the appropriate DOC official collaborate with the recipient by working jointly with a recipient scientist or technician in carrying out the scope of work;

(2) Specify direction or redirection of the scope of work due to the relationships with other projects; and,

(3) Review scope of work and closely monitor the program operations during the performance period.

Applicants whose initial applications are preliminarily selected must then submit a final Federal financial assistance award application package, including proposed projects and supporting documentation, and all required Federal financial assistance forms as described in the relevant program section below. The required Federal financial assistance forms SF-424, SF-424A, SF-424B, CD-511, CD-512, and if applicable, CD-346 and/or SF-LLL, can be obtained from the NOAA grants Website at http://www.rdc.noaa.gov/~grants/pdf. Applicants are required to include one original and two signed hard/paper copies for each final application package submitted.

The number of awards made under this funding Guidance may vary. See each program description in sections II - VII for more information. Successful applicants may be asked to revise award objectives, work plans, or budgets prior to submittal of the final application. The exact amount of funds to be awarded, the final scope of activities, the project duration, and specific NOAA cooperative involvement with the activities of each project will be determined in pre-award negotiations among the applicant, NOAA Grants Management Division (GMD), and relevant NOAA staff. Projects should not be initiated in expectation of Federal funding until a notice of award document is received from NOAA GMD. Publication of this document does not obligate NOAA to award any specific project or obligate all or any part of the available funds.

I. Authority

Statutory authority is provided under Section 6403 (Coral Reef Conservation Program) of the Coral Reef Conservation Act of 2000 (16 U.S.C. 6401 et seq.). Each program's Catalog of Federal Domestic Assistance (CFDA) number can be found in the specific program information included in sections II - VII below.

II. State and Territory Coral Reef Management

A. Program Description

This description provides requirements for applying for funding appropriated by Congress to NOAA and DOI in FY 2003 to support comprehensive programs for the conservation and management of coral reefs and associated fisheries in the jurisdictions of Puerto Rico, the U.S. Virgin Islands (USVI), Florida, Hawaii, Guam, the Commonwealth of the Northern Mariana Islands (CNMI), and American Samoa.

NOAA's National Ocean Service, Office of Ocean and Coastal Resource Management (OCRM) and National Marine Fisheries Service (NMFS) Office of Habitat Conservation (OHC), and DOI Office of Insular Affairs (OIA) are jointly providing approximately $2,100,000 in funding for cooperative agreements to support state and territorial coral reef and coral reef fishery management and conservation activities as listed in E(2) below.

Each jurisdiction need only develop and submit one comprehensive coral reef management application for the funds available under this section. The Federal agencies will coordinate their reviews of each application to ensure comparability and continuity. It is anticipated that OCRM will make awards to four of the seven jurisdictions and that DOI/OIA will make awards to the remaining three jurisdictions.

B. Eligibility Criteria

The eligible applicants are the governor-appointed point of contact agencies for coral reef activities in each of the jurisdictions of American Samoa, Florida, CNMI, Guam, Hawaii, Puerto Rico, and USVI.

C. Funding Availability and Mechanism

1. Funding Availability

Approximately $2,100,000 in FY 2003 funding is available for Coral Reef and Coral Reef Fishery Management cooperative agreements. Funding will be subject to the availability of federal appropriations. Support in out years after FY 2003 is contingent upon the availability of funds and the requirements of the Federal agency supporting the project. Each eligible jurisdiction can apply for a maximum $400,000.

2. Funding Mechanism

Cooperative agreements will be awarded to each eligible jurisdiction. Applicants may submit applications covering a 12- to 18-month period with an anticipated start date of October 1, 2003.

D. Matching Funds

The requirements for matching funds under Section VIII(3) of the Guidance are applicable to Funding Availability under this program. Specific information to be submitted in regard to matching funds can be found in the Application Content and Format Section below.

E. Application Content and Format

1. Application Content

Applications should reflect the National Coral Reef Action Strategy, the U.S. Coral Reef Task Force National Action Plan to Conserve Coral Reefs, and local strategies for coral reef management, such as the 1999, U.S. All Islands Coral Reef Initiative Strategy, as modified by the events and activities of the last 3 years. In addition, proposed activities should be coordinated, where appropriate, with ongoing and proposed NOAA coral reef mapping, monitoring, coastal zone and fishery management initiatives, and DOI Fish and Wildlife Service and National Park Service coral reef activities.

In light of the October 2002 U.S. Coral Reef Task Force resolution to implement a regional process to address six key focus areas, jurisdictions are encouraged to propose funding under this program for local projects and participation in support of this effort. A copy of the Task Force Resolution is available at http://coralreef.gov/res1cfm/.

In developing the application, applicants must consult with all relevant State and/or Territory governmental and non-governmental entities involved in coral reef activities in their respective jurisdictions. Those agencies consulted must include coastal zone management, water quality, and wildlife and/or marine resource agencies.

Funding under this award is also intended to support jurisdictional participation in national coral reef planning activities, such as U.S. Coral Reef Task Force meetings. As such, applicants should include in their proposal, anticipated travel costs associated with attendance and participation at U.S. Coral Reef Task Force and other relevant meetings and conferences.

Applicants may submit applications covering up to an 18-month period and must meet all applicable Department of Commerce (DOC) or DOI grant requirements. Initial and final applications must be submitted to NOAA by the due dates established in the DATES section above. Federal financial assistance forms are not required to be submitted with the initial application; however, all applicable Federal forms must be submitted with the final application. One original and two signed hard/paper copies of the final application, including forms, are required.

Large equipment and/or infrastructure acquisitions are not a priority for funding under this program. Such purchases proposed herein will be reviewed on a case by case basis with respect to the specific management objectives of this and the local coral reef program.

2. Application Format

In developing the proposal, applicants must organize proposed tasks into the following nine key threat management categories (a - i, below), which are based on those found in the threat and management action matrices developed by the All Islands Group:

a. Climate Change, Coral Bleaching, Diseases and Extreme Biotic and Storm Events, e.g., applied research, monitoring, or planning to better understand and manage impacts;

b. Overfishing, Destructive Fishing, and the Harvest and Collection of Marine Ornamentals (Including Coral), in FY 2003, NMFS OHC has provided $350,000 of the total $2,100,000 to fund priority state and territorial coral reef fishery management activities. Proposed funding for coral reef fishery management tasks should not exceed $60,000 per jurisdiction, and should be budgeted within the jurisdiction's comprehensive proposal.

The mandate of NMFS is to build sustainable fisheries, recover protected species, and sustain healthy habitats for these species. These tasks should be developed in the same format as the other coral reef management tasks and included and submitted in the comprehensive application. Examples of eligible projects include:

(i) Assessment and monitoring of fish and fishery resources, collection of fishery information;

(ii) Analysis of fishery impacts on reefs and support for the implementation of fishery gear restrictions or other priority regulations;

(iii) Development of fishery reserves;

(iv) Activities to improve management of ornamental reef species for the aquarium industry;

(v) Hiring or training of enforcement officers; and,

(vi) Outreach and education on fishery and endangered species issues.

c. Increasing Development Pressure, Unmanaged Land Use, and Population Growth, e.g., tasks to forward the conservation and management of coral reefs through planning, designation, implementation and evaluation of land use and marine protected areas; including personnel training, equipment procurement, management plan development, signage, monitoring and enforcement, etc.;

d. Tourism and Recreational Overuse, and Vessel Groundings and Anchorings, e.g., coastal zone management activities, marine and land zoning, vessel grounding prevention and management, mooring buoy installation, recreational signage, etc.;

e. Alien and Invasive Species, e.g., policy development, mitigation projects, etc.;

f. Marine Pollution, Sedimentation, Runoff, Nonpoint Source Pollution, and Marine Debris, e.g., tasks focused on: (1) Oil-spill prevention and response, e.g., developing response plans, personnel training, interagency coordination, etc.; (2) Marine debris prevention and removal, e.g., developing prevention policies, collection and disposal of debris, etc.; and (3) Reducing impacts from land-based/watershed pollution source, e.g., Best Management Practices (BMP) planning and implementation, watershed restoration projects, etc.;

g. Lack of General Public Awareness, e.g., tasks to increase general coral reef awareness including brochures and other informational materials, public meetings and workshops, etc.;

h. National Security Activities, e.g., tasks intended to support coordination toward the management of impacts from national security activities; and,

i. Other, e.g., activities that address other threats.

The first page of the application should consist of the cover page described in the SUPPLEMENTARY INFORMATION section at the beginning of this document.

For each category in which one or more task is proposed, the applicant must include the following information:

a. A brief introduction that describes the status of the issue in the jurisdiction as addressed by the proposed task; recent actions undertaken to address the issues, with a focus on the status of previous federally funded tasks; the jurisdiction's strategy to address critical needs over the medium term; and, a justification for the proposed task.

b. A description of each proposed task that must include:

(i) The category of management action from the All Islands Group management action matrix under which the proposed activity falls;

(ii) Clear identification of the work to be completed, who will perform the work, relationship to ongoing projects and how the project fits into the jurisdiction's strategy for addressing the issue;

(iii) How the project coordinates with relevant local governmental and non-governmental agencies and, if applicable, NOAA or DOI regional activities;

(iv) Task timetable with interim benchmarks and clearly-defined work products;

(v) Project priority as compared to all other proposed projects; and,

(vi) A Summary Budget that includes a detailed breakdown of costs by category and information regarding the amount of matching funds available to the applicant, as described in Section VIII(3) of this Guidance. Intended sources of matching funds must be identified in the application, and applicants whose proposals are selected for funding will be required to submit with the final application, letter(s) of commitment to fund from the organization(s) providing matching funds.

c. Each application must also include, on the last page, a summary budget table of all projects, which lists the name of each project proposed and the corresponding total cost and matching funds information.

F. Application Evaluation and Selection Criteria

1. Evaluation Criteria

Applications will be peer-reviewed by individuals with coral reef and fisheries management experience on the following equally weighted evaluation criteria, as evidenced by information in the application:

a. Documented need for the proposed coral reef management activity to fill gaps in the jurisdiction's management capacity;

b. Demonstrated coordination with applicable ongoing local, state, territorial, and Federal coral reef management activities;

c. Technical merit of the proposed management activity; and,

d. Ability of the work to be completed for the funding and timing proposed.

Subsequently, a Federal agency team of representatives from NMFS, OCRM, and OIA will review the applications, pursuant to equally weighted criteria described in Section X(3) of the Guidelines and comments received from peer reviewers. Based on this review, the team will make a preliminary funding recommendation for each jurisdiction.

2. Selection Criteria

OCRM and DOI will then provide the preliminary funding recommendation and application comments to each selected jurisdiction. These comments will include input from peer reviewers and the Federal agency team and are intended for use in the applicant's development of the final application.

Upon receipt of the final application, complete with the requisite Federal financial assistance forms, the Federal agency team will review the complete package and make final funding recommendations based on the response to comments that were returned to the applicant. The team will submit these funding recommendations to the NOAA review panel for final review, pursuant to Section X(4) of the Guidelines.

If all available funds are not awarded, NOAA and DOI will consult with the eligible applicants on the use of any residual funds. NOAA and DOI will work with each jurisdiction to ensure the greatest degree of success in meeting local, state, territorial, and national coral reef management needs.

G. Program Authority

Specific authority for the NOAA program is found in 16 U.S.C. 6403. NOAA proposals will be reviewed and awarded by OCRM under title, Coastal Zone Management Program, CFDA Number: 11.419.

III. State and Territory Coral Reef Ecosystem Monitoring

A. Program Description

This description provides requirements for applying for funding appropriated by Congress to the NOAA in FY 2003 to support state and territorial coral reef ecosystem monitoring. This program will be administered by the NOS National Centers for Coastal and Ocean Science (NCCOS).

NOAA and its partners are implementing a nationally coordinated, comprehensive, long-term monitoring program to assess the condition of U.S. coral reef ecosystems and evaluate the effectiveness of coral reef ecosystem management decisions. This program was requested by the U.S. Coral Reef Task Force, which, along with the nation's coral reef program managers and the public, endorsed and called for implementation of “A National Program to Assess, Inventory, and Monitor U.S. Coral Reef Ecosystems.”

NOAA began implementing the Program in 2000 and continues to administer it with Congressional appropriations for coral reef conservation. The Program includes the collection, analysis, and reporting of long-term coral reef ecosystem monitoring data pursuant to scientifically valid methodologies and protocols and is a key priority of the National Coral Reef Action Strategy.

The implementation plan calls for integration of now-disparate monitoring sites into a coordinated national network, sharing of monitoring information among U.S. coral reef resource managers and scientists, and filling gaps in monitoring coverage nationwide. Through this Program, U.S. Federal, state, commonwealth, and territory, and Freely Associated State agencies support a variety of local and regional assessments, inventories, and monitoring of U.S. and U.S. affiliated coral reef resources. Additionally, there are several regional volunteer and community monitoring programs regularly assessing reef resources. A nationally coordinated coral monitoring infrastructure will enable the preparation of a biennial science-based report on the condition or “health” of U.S. coral reef ecosystems and support local coral reef management efforts.

The nation's coral reef resource managers have recommended key biotic and abiotic parameters that should be monitored at all local sites in the National monitoring network:

1. Benthic habitat characterization (e.g., depth, habitat delineation, and/or percent live/dead cover of corals, submerged aquatic vegetation, macroalgae, sponges, rugosity, diversity, etc.);

2. Associated biological community structure including fish condition (e.g., abundance, density, size, diversity, disease, harvest trends) and large motile and sessile invertebrates condition (abundance, density, size, diversity, disease, harvest trends); and,

3. Water/substrate quality (e.g., temperature, nutrient enrichment, toxic chemicals, turbidity).

Proposed work should include multi-organizational partnerships (local, regional, Federal, and possibly international) that build local capacity for maintaining long-term monitoring sites as part of a National Coral Reef Monitoring Network. NOAA will be an active partner in the development and implementation of the award; thus, proposals should be structured as cooperative agreements between NOAA and the principal investigators. For these proposals, it is appropriate to include the equipment necessary to build capacity to archive biotic transects (e.g., one or more digital videography cameras with underwater housing, museum maintenance of reference specimen collections, etc.).

B. Eligibility Criteria

Eligible applicants are limited to the natural resource management agency in each U.S. State or Territory, or Freely Associated State, with jurisdiction over coral reefs, as designated by the respective governors or other applicable senior jurisdictional official. NOAA is requesting proposals from Puerto Rico, Florida, U.S. Virgin Islands, Hawaii, American Samoa, Guam, the Commonwealth of the Northern Mariana Islands, the Federated States of Micronesia, Republic of Palau, and the Republic of the Marshall Islands. Federal agencies are not eligible for funding under this Program.

Furthermore, to be eligible for FY 2003 funding, applicants previously receiving funds under this Program must have made significant progress implementing those tasks and met data submission deadlines, including all performance and fiscal reporting requirements and data transfers.

C. Funding Availability and Mechanisms

1. Funding Availability

Approximately $840,000 will be available in FY 2003 for coral reef ecosystem monitoring activities under this program. FY 2003 awards to Puerto Rico, Florida, U.S. Virgin Islands, Hawaii, American Samoa, Guam, and the Commonwealth of the Northern Mariana Islands are expected to range from $50,000 to $100,000. FY 2003 awards to the Federated States of Micronesia, Republic of Palau, and the Republic of the Marshall Islands are expected to be approximately $10,000 to $20,000 per year. Funding will be subject to the availability of federal appropriations.

2. Funding Mechanism

Funds will be administered though cooperative agreements between eligible organizations and NCCOS. FY 2003 awards to Puerto Rico, Florida, U.S. Virgin Islands, Hawaii, American Samoa, Guam, and the Commonwealth of the Northern Mariana Islands may submit proposals up to 3 years in duration, at funding levels between $50,000 to $100,000 per year (e.g., up to $300,000 for 3-year continuation proposal). FY 2003 awards to the Federated States of Micronesia, Republic of Palau, and the Republic of the Marshall Islands may submit proposals up to three years in duration, at funding levels between $10,000 - $20,000 per year (i.e., $60,000 for three year continuation proposal). FY 2003 awards, however, will only provide funding for the monitoring activities proposed for FY 2003, and funding for out years is contingent on subsequent years' appropriations. Multiple-year proposals must specify the budget and activities for each year. Annual projects should follow the Federal fiscal year, beginning on October 1 and ending September 30.

D. Matching Funds

The requirements for matching funds under Section VIII(3) of the Guidance are applicable to Funding Availability under this program. Specific information to be submitted in regard to matching funds can be found in the Application Content and Format section below.

E. Application Content and Format

1. Content

Application Content should be developed and submitted according to the following guidelines:

a. First time applicants for monitoring awards: Eligible activities for the first year of proposed funding (i.e., FY 2003) include an initial characterization of baseline ecosystem condition, an inventory/mapping of biotic resources, and an assessment of anthropogenic stressors (e.g., contaminants in lagoon sediments, sedimentation conditions, eutrophication, etc.) if these studies are prerequisite to establishing new long-term monitoring sites. Activities can also include database development and training of field crew. Proposed second and third year work should follow the guidelines for previous recipients below.

b. Previous recipients of NCCOS monitoring awards: Proposals from previous recipients should detail the monitoring design, sampling parameters and protocols, data management, and the need/context for establishing new long-term monitoring sites. Proposals should describe how the proposed monitoring meets local coral conservation needs and fits into ongoing long-term assessments, inventories, and monitoring within the jurisdiction and/or region. Each proposal must provide enough specificity on the parameters to be monitored, the design and frequency of sampling, methods used, data management and quality assurance, and other information for peer-reviewers to judge the quality of proposed work. Of particular importance to creating a National Coral Reef Monitoring Network, each proposal should also address (1) how compatible the proposed data (e.g., data confidence limits, standardized protocols) will be with other jurisdictional and regional databases, and (2) when and in what format the data will be available to NOAA. The information produced through these awards is intended to fill gaps in knowledge of coral reef ecosystems nationwide, track and predict changes in coral reef ecosystems nationwide, and serve as the foundation for biennial reporting in the Report of the Health of U.S. Coral Reef Ecosystems.

In addition, each jurisdiction's proposal for FY 2003 must include the preparation of a comprehensive assessment of coral reef ecosystem health. This will be each jurisdiction's contribution to the Report on the Health of U.S. Coral Reef Ecosystems: 2004. Toward this end, FY 2003 proposals may budget for travel to at least one national workshop, costs for preparing and printing a jurisdictional report on the condition of coral reef ecosystems, and related expenses.

In light of the October 2002 U.S. Coral Reef Task Force resolution to implement a regional process to address six key focus areas, jurisdictions are encouraged to propose funding under this program for local projects and participation in support of this effort.

2. Application Format

Applicants must submit initial applications, inclusive of elements a-e below, by the date established in the DATES section above. Applications are limited to 15 standard letter size pages, including attachments, and font should be Times New Roman, 12 point or larger.

a. A Cover Page as described in the SUPPLEMENTAL INFORMATION section at the beginning of this Guidance;

b. A Project Description (i.e., narrative description) for each proposed task that includes: the specific priority management questions that are driving the effort, how data collected will be translated and transferred to the local management community, project objectives, and a timetable with project milestones;

c. A Summary Budget that includes a detailed breakdown of costs by category and a description of the amount of matching funds available to the applicant, as described in Section VIII of the Guidelines. Each subcontract or subgrant should be listed as a separate item. Describe the products or services to be obtained and indicate the applicability or necessity of each to the project. Provide separate budgets for each subcontract or subgrant and indicate the basis for the cost estimates. More detailed budget instructions are available at http://biogeo.nos.noaa.gov/~jchristensen/mon_web/. Intended sources of matching funds must be identified in the application. Applicants whose proposals are selected for funding will be required to submit letter(s) of commitment to fund from the organization(s) providing matching funds with the final application. Multiple-year proposals must specify the budget and activities for each year;

d. Curriculum Vitae for principal investigators;

e. Summary Project Abstract; and,

f. All required NOAA Federal financial assistance awards - forms (see below). One original and two copies of the jurisdiction's application must be submitted to NOAA by the date established in the DATES section at the beginning of this Guidance.

Final applications must include all elements of the initial application, any responses to comments and edits, all required NOAA Federal financial assistance forms (element f above), and must be received by NOAA on or before the date established in the DATES section above. One original and two signed hard copies of the final applications are required.

The NOAA Grants Management Division program web site, http://www.rdc.noaa.gov/~grants/index.html, provides detailed application instructions and electronic versions of Federal financial assistance forms. The two most relevant sections at this web site are, “C. Instructions and Guidelines,” and, “D. Application Forms for Initial Proposal Submission.” Applicants should review their application package prior to submission and be sure that all blocks on forms SF-424, SF-424A, SF-424B, CD-511, CD-512, and if applicable, CD-346 and/or SF-LLL have been filled in completely. Monitoring program Applicants should reference http://biogeo.nos.noaa.gov?~jchristensen/mon_web/ for instructions on filling out forms SF-424 and SF-424A.

F. Application Evaluation and Selection Criteria

1. Evaluation Criteria

Applications will be peer-reviewed by a small panel of representatives from relevant U.S. State, Territory, and Federal, and Freely Associated State agencies, as well as the jurisdictional coral reef Points of Contact (POCs). Each POC will be asked to review one or more proposals from other jurisdictions, but never their own. Proposals will be peer-reviewed on the following criteria:

a. The jurisdiction's need for such work to fill gaps in monitoring coverage and build local capacity for long-term monitoring of coral reef ecosystems;

b. The quality of the proposed science and potential for the resulting data to be incorporated into a National Monitoring Network;

c. The ability of the principal investigators to conduct such work; and,

d. Support for the All Islands Coral Reef Initiative, in applicable jurisdictions.

Reviewer results will be shared with applicants, and applicants will be given the opportunity to revise their application and/or respond to reviewer comments.

Taking into consideration comments received from peer reviewers, NCCOS will evaluate each proposal and develop funding recommendations based on the criteria in Section X(3) of the Guidelines. In evaluating the technical merit and adequacy of the implementation plan, NCCOS will apply the following 3 equally weighted criteria:

a. Relevance to establishing a national monitoring network. The principal objective of the proposals should be to fill priority gaps or needs in coral reef monitoring and assessment programs, such that they contribute to the creation of a comprehensive and coordinated network of monitoring sites for U.S. coral reef ecosystems. In subsequent years, the project should be monitoring the “minimum suite of key biotic and abiotic parameters,” (as listed in the program description) at least once a year, at one or more sites;

b. Quality assurance and error estimates for parameter measurements. Flexibility of methodologies for acquiring measurements is allowable, as long as they are done in situ and are quantitatively reliable within a jurisdiction and across a region. Where possible, NOAA favors a stratified random sampling design for site selection (i.e., ideally based on reliable habitat maps), multi-methodological monitoring of the ecosystem (i.e., line transects for cryptic species, point-count surveys for large pelagic species), and sample archiving (i.e., species reference collections, transect/survey videographic records); and

c. Potential to meet data reporting requirements and the ability of transferring the data to the local or regional management community. Data from proposals must be useful in preparing the biennial report on the Health of U.S. Coral Reef Ecosystems. Grant recipients will provide raw or synthesized data to NCCOS no later than 3 months after data collection. The data generated in the National Coral Reef Ecosystem Monitoring Program will by used by NOAA and its partners to develop regional and national state of the reef reports and disseminated to the public via NOAA's Coral Reef Information (CoRIS) Web site development (http://www.coris.noaa.gov). Biotic data integrity is critical for sharing of information and detection of national/regional trends and hotspots. Each jurisdiction will need to have basic data management quality controls and quality assurances for its data. Funding eligibility for future funding years will be contingent on meeting data submission deadlines including all performance and financial reporting requirements and data transfers.

2. Proposal Selection

Based on these reviews, NCCOS will provide a preliminary funding recommendation and proposal comments to each selected applicant. These comments will include input from peer reviewers and the Federal agency team and are intended for use in the applicant's development of the final application.

Upon receipt of the final application, complete with the requisite Federal forms, the Federal agency team will review the complete package and make final funding recommendations based on the incorporation and/or response to comments that were returned to the applicant. NCCOS will submit these funding recommendations to the NOAA review panel for final review, pursuant to Section X(4) of the Guidelines.

G. Program Authority

Specific authority for this program is found in 16 U.S.C. 6403. Proposals will be reviewed and awarded by NCCOS under title, Financial Assistance for National Centers of Coastal Ocean Science, CFDA 11.426.

IV. Coral Reef Ecosystem Research

A. Program Description

In FY 2003, the Program is providing $600,000 to NOAA's Undersea Research Program (NURP) to cooperatively administer NURP coral reef grant programs for the Caribbean, Florida, Hawaii, and the Western Pacific. Three separate requests for proposals will be announced. The Hawaii Undersea Research Laboratory will administer and announce the program for Hawaii and the Western Pacific; the Caribbean Marine Research Center will address research needs in the U.S. Caribbean; and the Southeastern U.S. and Gulf of Mexico Center will announce a joint program in partnership with the U.S. Environmental Protection Agency and the Sanctuary Friends of the Florida Keys, which will support research in the Florida Keys National Marine Sanctuary. All three requests for proposals and program descriptions are available at http://www.nurp.noaa.gov/noaacoral.html or by contacting the appropriate regional contact persons identified in the contact information section (C) below. The grant eligibility and matching requirements and review process will be consistent with the NOAA Coral Reef Conservation Grant Program Guidelines.

Please Note: Proposals are not being solicited for Coral Reef Research at this time. Separate solicitations will be made at a later date. For more information see “C. Contact Information” below. Funding will be subject to the availability of federal appropriations.

B. Research Priorities

Research supported through this program will address priority information needs identified by coral reef ecosystem managers and scientists. FY 2003 priorities include research on coral disease and bleaching, fisheries population dynamics and ecology, effects of anthropogenic stressors on benthic invertebrates, impacts and spread of invasive species, and evaluation of management actions and strategies. Specific priorities within these broad areas, and geographic preferences, will be indicated in each NURP Center's request for proposals.

C. Contact Information

For overall information regarding the NURP Coral Reef Grants Program contact: Kimberly Puglise, 301-713-2427, extension 199 or e-mail at kimberly.puglise@noaa.gov, or see: http://www.nurp.noaa.gov/noaacoral.html.

For information regarding the NURP Center for the Caribbean contact: Craig Dahlgren, 561-741-0192, extension 231 or e-mail at cdahlgren@cmrc.org.

For information regarding the NURP Center for the Southeastern United States and the Gulf of Mexico contact: Andrew Shepard, 910-962-2446 or e-mail at sheparda@uncw.edu.

For information regarding the NURP Center for Hawaii and the Western Pacific contact: Keith Crook, 808-956-9429 or e-mail at Crook@soest.hawaii.edu.

V. General Coral Reef Conservation

A. Program Description

This description provides guidance for applying for funding appropriated by Congress to NOAA in FY 2003 to support efforts by educational and non-governmental institutions to conserve the coral reef ecosystems of the United States and the Freely Associated States in the Pacific (Republic of Palau, the Republic of the Marshall Islands, and the Federated States of Micronesia). This program will be administered by the National Marine Fisheries Service (NMFS) Office of Habitat Conservation (OHC).

The objective of this program is to support educational and non-governmental institution led programs and projects in U.S. States and Territories and the Freely Associated States to:

1. Help preserve, sustain and restore the condition of coral reef ecosystems;

2. Promote the wise management and sustainable use of coral reef resources; and,

3. Increase public knowledge and awareness of coral reef ecosystems and issues regarding their conservation.

B. Criteria Changes in FY 2003

Please note the following criteria changes in the FY 2003 General Coral Reef Conservation program:

1. Applicant Eligibility: Government agencies of U.S. States, Territories, and Commonwealths, and Freely Associated States are not eligible under this category in FY 2003. U.S. State and Territory government agencies are eligible under section II and III, and government agencies of the Freely Associated States are eligible under section III and VII.

2. Project Eligibility: Applications for research activities will not be eligible under this category in FY 2003. Applicants interested in submitting coral research proposals should consult section IV. Coral Reef Ecosystem Research.

3. Award size: It is expected that most awards will range from a minimum of $15,000 to a maximum of $50,000. This is less than the maximum in FY 2002.

C. Eligibility Criteria

Eligible applicants include institutions of higher education, non-profit organizations, commercial organizations, and local and Indian tribal governments. U.S. State, Territory, and Commonwealth, and Freely Associated State Government Agencies are not eligible under this category in FY 2003. Federal agencies are eligible under this program; however, pursuant to Section IV of the Guidelines, such applications will be a low priority unless they are an essential part of a cooperative project with other eligible educational or non-governmental institutions. In order for a Federal agency to receive an award under this program, it must provide the requisite statutory authority to receive funds from a Federal agency for these purposes. Please note that the Economy Act, 31 U.S.C. 1535, is not sufficient legal authority because NOAA is not procuring goods or services from the federal agency. Regional Fishery Management Councils are not eligible under this program.

D. Funding Availability and Mechanisms

1. Funding Availability

Approximately $400,000 in funding is available in FY 2003 for awards under this program. It is expected that most awards will range from a minimum of $15,000 to a maximum of $50,000. Funding will be subject to the availability of federal appropriations.

2. Funding Mechanism

Applications selected for funding from non-Federal applicants will be funded through a project grant or cooperative agreement under the terms of this document. Applications selected for funding from Federal agencies will be funded through an interagency agreement. Generally, NMFS will make awards only to those projects where requested funding will be used to complete proposed activities within a 18-month period from the approved start date of the project.

E. Matching Funds

The requirements for matching funds under Section VIII(3) of the Guidance are applicable to Funding Availability under this program. Specific information to be submitted in regard to matching funds can be found in the Application Content and Format section here.

F. Application Content and Format

1. Application Content

Applications should support the National Coral Reef Action Strategy and the following goals of the U.S. Coral Reef Task Force National Action Plan to Conserve Coral Reefs: A.II. Assess and Monitor Reef Health; A.IV. Understand Social and Economic Factors; B.I. Improve Use of Marine Protected Areas (MPAs); B.II. Reduce Impacts of Fishing; B.IV. Reduce Pollution; B.V. Restore Damaged Reefs; and B.VI. Improve Education. In addition, proposed activities should be coordinated, where appropriate, with ongoing and proposed NOAA mapping, monitoring, and coral reef or fishery management initiatives, and DOI Fish and Wildlife Service and National Park Service coral reef activities.

Applicants must consult with all relevant state, territory, and local governmental and non-governmental entities involved in coral reef activities in developing the application. Local government agencies that must be consulted include coastal zone management, water quality, and wildlife and/or marine resource agencies.

Applicants may submit applications covering a 12-to 18-month period, and must meet all applicable DOC grant requirements. One copy of the initial application, submitted electronically or by surface mail, must be received by NOAA by the date established in the DATES section above.

One original and two signed copies of the final application, complete with all required Federal financial assistance forms (SF-424, SF-424A, SF-424B,, CD-511, CD-512, and, if applicable, CD-346 and/or SF-LLL) must be received by NOAA by the date established in the DATES section above. In addition, applicants may choose to submit an electronic copy (in Word Perfect, Microsoft Word, or PDF) with the required original and hard copies of the final application.

2. Application Format

In developing the application, the applicant must catagorize proposed tasks into the following 7 categories, which are based on a subset of those found in the National Action Plan:

a. Monitoring and assessment of coral reefs or reef resources; e.g., community or non-governmental organization monitoring or assessment programs that complement State or Territorial coral reef monitoring programs funded out of the NCCOS Coral Reef Monitoring Award,

b. Socio-economic and resource valuation, e.g., community assessments, economic valuations, alternative income generation workshops, etc.,

c. Marine Protected Areas and associated management activities, especially assessment of the gaps in protection of existing marine protected area systems, and outreach and education efforts,

d. Coral reef fisheries management, e.g., resource assessments, collection of fishery information, outreach to fishers, co-management of coral reef fisheries by fishing communities, etc.,

e. Reducing pollution, e.g., marine debris prevention and removal, reducing impacts from land-based/watershed pollution sources, etc.,

f. Coral reef restoration, e.g., restoration of coral reef habitats resulting from physical and biological disturbances such as orphan vessel groundings, storm events, coral disease and coral predator outbreaks, and anthropogenic disturbances, particularly projects utilizing innovative coral restoration technologies and/or comprehensive evaluation of restoration sites, and

g. Public education and outreach activities, e.g., brochures and other informational materials, public meetings and workshops, etc., particularly those which address the needs of local user groups.

Please Note: Coral reef research activities are not eligible for funding under this General Coral Reef Conservation program. Applicants interested in submitting coral reef research proposals should consult section IV. Coral Reef Ecosystem Research of this Guidance.

In addition, the following projects will not be eligible for funding:

(1) Activities that constitute legally required mitigation for the adverse effects of an activity regulated or otherwise governed by state or Federal law;

(2) Activities that constitute mitigation for natural resource damages under Federal or state law; and,

(3) Activities that are required by a separate consent decree, court order, statute or regulation.

Applications for the coral reef conservation activities beyond the scope of those legally required by mitigation or restoration activities as described above, are eligible under this program. For each project proposed, the applicant should not exceed 20 pages, including descriptions of qualification, letters of support and no more than five pages of other attachments, and should use 12-point font on letter size paper. Each application must include the following:

1. The cover page described in the SUPPLEMENTARY INFORMATION section at the beginning of this Guidance.

2. An introduction, not to exceed one page, that describes:

a. The status and magnitude of the issues in the jurisdiction where the project will take place;

b. Recent actions undertaken to address the issues, with a focus on federally funded tasks; and

c. How the project fits into the jurisdiction's strategy to addressing critical coral reef conservation needs the next 2-to 3-years.;

3. A description of each proposed task that includes:

a. Clear identification of the work to be completed and who will perform the work;

b. How the project coordinates with relevant state, territorial, or local governmental and non-governmental agencies, and if applicable, NOAA regional activities;

c. A narrative Budget Summary that includes a detailed breakdown of costs by category and information regarding the amount of matching funds available to the applicant, pursuant to Section VIII(3) of this Guidance. Intended sources of matching funds must be identified in the application. Applicants whose proposals are selected for funding will be required to submit with the final application, letter(s) of commitment to fund from the organization(s) providing matching funds; and

d. Task timetable with interim benchmarks and clearly defined work products.

G. Application Evaluation and Selection Criteria

1. Evaluation Criteria

Applications will be peer-reviewed on the following equally weighted evaluation criteria by individuals with coral reef conservation experience:

a. Documented need for the proposed coral reef activity in the jurisdiction;

b. Demonstrated coordination with applicable ongoing local, state, territorial, and Federal coral reef management activities;

c. Technical merit of the proposed activity;

d. Ability of the work to be completed for the funding and timing proposed (projects that can be completed within 18- months of the start date will receive a higher score for this criterion); and,

e. Evidence presented of the capacity of the applicant to conduct the proposed work, including past performance on similar projects or programs involving coral reef ecosystems. NOAA will request and consider written comments on proposed projects from each agency with jurisdiction over coral reef ecosystems in the area where the project is to be conducted, pursuant to Section X(1) of the Guidelines.

NMFS will then review the applications, consistent with the equally weighted criteria listed in Section X(3) of the Guidelines and comments received from peer reviewers and jurisdictions.

2. Selection Criteria

In addition to these peer review criteria and comments from jurisdictions, NMFS will strive for a balanced selection of projects among jurisdictions and subject areas. Based on these cumulative reviews, NMFS will make preliminary funding recommendations which may not be the highest scoring proposals. NMFS will provide a summary of review comments to each selected applicant. These summary comments will include input from peer reviewers, the solicited jurisdictions, and the NMFS review, and are intended to be used in the applicant's development of the final application.

Upon receipt of the final application, complete with the requisite Federal forms, NMFS will review the complete package and make final funding recommendations based on the incorporation of, and/or response to, comments that were returned to the applicant. NMFS will submit these funding recommendations to the NOAA review panel for final review, pursuant to Section X(4) of the Guidelines. The review panel will ensure that funding decisions are consistent with the geographic distribution requirements of 16 U.S.C. 6403(d). As a result, awards may not necessarily be made to the highest scoring applications.

If insufficient eligible projects are received, NOAA may reallocate residual funds from this program area to a different funding category under the Program.

H. Program Authority

Specific authority for this program is found in 16 U.S.C. 6403. Proposals will be reviewed and awarded by the National Marine Fisheries Service Office of Habitat Conservation under title, Habitat Conservation, CFDA 11.463.

VI. Projects to Improve or Amend Coral Reef Fishery Management Plans

A. Program Description

This description provides guidance for applying for funding appropriated by Congress to NOAA in FY 2003 to support conservation and management of coral reef fisheries by Regional Fishery Management Councils with responsibilities for Fishery Management Plans (FMP) that include coral reefs or fishery resources that depend on these reef ecosystems, as established under the Magnuson-Stevens Fishery Conservation and Management Act (16 U.S.C. 1801 et seq.). This program will be administered by the NMFS Office of Habitat Conservation (OHC).

The objective of this program is to support value-added studies or projects by the Councils that will enhance the conservation of coral reef fishery resources. It is not intended to support normal Council activities or responsibilities.

B. Eligibility Criteria

Applicants are limited to the Western Pacific Regional Fishery Management Council, South Atlantic Fishery Management Council, Gulf of Mexico Fishery Management Council, and Caribbean Fishery Management Council.

C. Funding Availability and Mechanisms

1. Funding Availability

NMFS OHC will provide approximately $1,350,000 in FY 2003 funding for cooperative agreements to support coral reef conservation activities under this program. In order to ensure the regional balance called for by the Coral Reef Conservation Act of 2000, a maximum of $750,000 will be available for activities in the Western Pacific, and a maximum of $600,000 will be available for activities in the South Atlantic, Gulf of Mexico, and Caribbean. Funding will be subject to the availability of federal appropriations.

2. Funding Mechanism

Cooperative agreements will be awarded to successful applicants from each eligible Regional Fishery Management Council for eligible activities. Activities approved by NOAA will be awarded either as new cooperative agreements or amendments to existing cooperative agreements by either the Southeast Region or the Pacific Islands Area Office. Proposals should cover a project period of 12-to 18-month period with an anticipated start date of October 1, 2003.

D. Matching Funds

The Administrator has waived the matching requirement of Section X of the Guidance for the Fishery Management Councils. This waiver is based on the fact that the Councils are funded solely by awards from the U.S. Federal Government, and, therefore, do not have the ability to generate matching funds.

E. Application Content and Format

1. Application Content

Applications should support the National Coral Reef Action Strategy and the U.S. Coral Reef Task Force National Action Plan to Conserve Coral Reefs. In addition, proposed activities should be coordinated, where appropriate, with ongoing and proposed NOAA mapping, monitoring, and fishery management initiatives, and State and Territorial coral reef conservation initiatives in their own waters contiguous to the Federal Exclusive Economic Zone.

Fishery Management Councils must consult with state and territorial agencies and all other relevant local governmental and non-governmental entities involved in coral reef activities in developing applications. Councils are strongly encouraged to coordinate project proposal development with NMFS Regions and Science Centers to ensure mutually supportive coral reef conservation programs.

Councils may submit applications covering a 12-to 18-month period, and must meet all applicable DOC grant requirements. One copy of the initial application, submitted electronically or by surface mail, must be received by NOAA on or before the date established in the DATES section above.

One original and two signed copies of the final application, complete with all required Federal financial assistance forms(SF-424, SF-424A, SF-424B,, CD-511, CD-512, and, if applicable, CD-346 and/or SF-LLL) must be received by NOAA on or before the date established in the DATES section above.

a. Eligible activities: Eligible activities are those that support the Strategy's goal of Reducing the Adverse Impacts of Fishing and other Extractive Uses on Coral Reefs and incorporating these objectives into existing or new Federal fishery management plans. While first priority will be given to proposals for coral reef activities in the Council's jurisdiction, proposals for complementary activities of high conservation value within state waters that are fully coordinated with appropriate state, territory or commonwealth management authorities will also be accepted. Proposed activities should be in addition to those currently supported by NMFS and should not replace support for existing Council staff. The following represent priority activities for funding:

(1) Studies that identify, map and characterize important essential fish habitat, habitat areas of particular concern, and spawning populations in U.S. coral reef ecosystems. Special priority will be given to studies associated with coral reef areas that are currently, permanently, or seasonally closed to fishing or that may merit inclusion in an expanded network of no-take ecological reserves. Eligible activities would include multi-beam or sidescan sonar mapping and characterization of such areas on deeper coral reefs, banks and beds;

(2) Monitoring reef fish stocks in existing no-take marine reserves and reference sites on coral reefs in the Council's jurisdiction to evaluate the effectiveness of reserves;

(3) Studies needed to develop proposals to reduce over-fishing of coral reef resources, including compilation of existing background information on currently unassessed coral reef fishery stocks, or targeted assessments of such coral reef fishery stocks for which overfishing is strongly suspected;

(4) Studies needed to identify adverse effects of fishing and fishing gear on essential fish habitat and implementing actions to reduce these effects;

(5) Studies, workshops, or consultations with fishers needed to eliminate destructive and habitat-damaging fishing practices;

(6) Studies, workshops, or consultations with fishers needed to assess the adequacy of current fishing regulations and the need for additional gear and anchoring restrictions to reduce habitat damage on coral reefs within the Council's jurisdiction;

(7) Enhanced education and outreach to recreational and commercial fishers specifically targeted to reduce the adverse impacts of fishing on coral reef ecosystems;

(8) Studies needed to understand ecosystem-scale considerations into coral reef fishery management plans;

(9) Studies needed to understand ecosystem effects of fishing, including: the development of models and studies to improve our understanding of larval pathways, trophic interactions and their ecosystem impacts associated with fishing, and habitat impacts associated with certain types of fishing gear and practices; and

(10) Studies needed to reduce the overexploitation of reef organisms for the aquarium trade.

b. Ineligible Activities: The following categories of activities or expenses are not eligible for funding:

(1) Meetings and travel necessary to conduct normal Council business including regular Advisory Panel, Stock Assessment Panel or Scientific and Statistical Committee meetings, Environmental Impact Statement hearings; other public hearings; Fishery Management Council meetings; etc.

(2) Regular Council reports and information dissemination, including annual FMP reports, FMP amendments, public notices, advertisements, etc.

(3) Council staff aside from a maximum of one full-time equivalent working exclusively on Council coral reef conservation activities.

(4) Activities related to FMPs that do not directly include shallow coral reef resources.

2. Application Format

Cooperative Agreement proposals must include:

a. A cover page as described in the SUPPLEMENTARY INFORMATION section at the beginning of this Guidance.

b. An introduction, not exceeding one page, that describes:

(1) The status and magnitude of the coral reef fisheries conservation issues in the Council's jurisdiction; and

(2) The Council's strategy to address critical coral reef fisheries conservation needs over the medium term (the next 2- to 3-years) and how the proposed activities support this strategy.

c. A summary, not exceeding three pages, of the status and accomplishments of activities by the Council funded under the Coral Reef Conservation Grant Program in FY 2002.

d. A description of each proposed task that should include:

(1) Objective of the task of study;

(2) Clear identification of the work to be completed, who will perform the work, brief description of the methods to be used, specific study sites (for field projects), expected deliverables, and how the project fits into the Council's strategy for addressing the larger coral reef fisheries conservation issue;

(3) How the project coordinates with relevant local governmental and non-governmental agencies and, if applicable, NOAA regional activities;

(4) Summary budget for each discrete task item including personnel costs (contract and Council staff), other contract costs, travel, supplies or equipment;

(5) Task timetable with interim benchmarks and clearly defined work products; and,

(6) Project priority as compared to all other proposed projects.

F. Application Evaluation and Selection Criteria

1. Evaluation Criteria

Applications will be peer-reviewed on the following equally weighted evaluation criteria by individuals with coral reef conservation experience:

a. Documented need for the proposed coral reef activity in the jurisdiction of the Council;

b. Demonstrated coordination with applicable ongoing local, state, territorial, and Federal coral reef management activities;

c. Technical merit of the proposed activity;

d. Ability of the work to be completed for the funding and timing proposed and cost effectiveness of proposed activity; and,

e. Evidence presented of the capacity of the applicant to conduct the proposed work, including past performance on similar projects or programs involving coral reef ecosystems, and progress on Coral Reef Conservation Grant activities funded in FY 2002.

NOAA will also request and consider written comments on proposed projects from each agency with jurisdiction over coral reef ecosystems in the area where the project is to be conducted, pursuant to Section X(1) of the Guidelines.

A NMFS team of representatives from the OHC, the Southeast Region, the Southeast Fishery Science Center, the Pacific Islands Area Office and the Honolulu Laboratory will review the applications, consistent with the equally weighted criteria listed in Section X(3) of the Guidelines and consider comments received from peer reviewers and appropriate management authorities.

Based on this review, the team will make preliminary funding recommendations. These preliminary funding recommendations will be submitted to the NOAA review team, pursuant to Section X(4) of the Guidelines.

2. Selection Criteria

Based on these cumulative reviews, NMFS will provide comments to each selected applicant. These comments will include input from peer reviewers, solicited jurisdictions, and the NMFS review team, and are intended to be used in the applicant's development of the final proposal.

Upon receipt of the final application, complete with the requisite Federal financial assistance forms, the NMFS team will review the complete package and make final funding recommendations based on the incorporation of and/or response to comments that were returned to the applicant. The team will submit these funding recommendations to the NOAA review panel for final review, pursuant to Section X(4) of the Guidelines.

If proposals from one or more Councils are ineligible to receive funding, NOAA may award those residual funds for eligible activities proposed by another Council or move the residual funds to a different funding category under the Program. NOAA will work with each Council to ensure the greatest degree of success in meeting the goals of the Strategy.

G. Program Authority

Specific authority for this program is found in 16 U.S.C. 6403. These cooperative agreements will be reviewed and awarded by the NMFS under title, Regional Fishery Management Councils, CFDA Number: 11.441.

VII. International Coral Reef Conservation

A. Program Description

This description provides guidance for applying for funding appropriated by Congress to NOAA in FY 2003 to support the international conservation and management of coral reef ecosystems. These funds will be administered by NOS International Program Office (IPO).

The Coral Reef Conservation Act of 2000 authorizes cooperative conservation and management of coral reefs and coral reef ecosystems with local, regional or international programs and partners. The National Action Plan to Conserve Coral Reefs (National Action Plan) calls on the United States to, “exercise global leadership in the international arena in shaping and developing environmentally sound and comprehensive coral reef policy, strengthen international conventions and foster strategic partnerships with other countries, international organizations and institutions, the public and private sectors, and non-governmental organizations to address international threats to coral reef ecosystems.”

In FY 2003, the International program consists of the following four project categories:

1. Promote Watershed Management in Wider Caribbean Island Nations: The National Action Plan encourages the U.S. to “provide assistance in managing and conserving reef ecosystems and their watersheds.” Further, the U.S. and its partners are launching the White Water to Blue Water Initiative presented at the World Summit on Sustainable Development. This Partnership emphasizes a cross-sectoral approach to marine resources management beginning with the upstream watershed and extending to the adjacent marine environment, including coral ecosystems. It is intended to help implement international agreements and programs, for example, the Barbados Programme of Action for the Sustainable Development of Small Island Developing States, The Convention for the Protection and Development of the Marine Environment of the Wider Caribbean Region (the Cartagena Convention) and its three protocols (including The Protocol concerning Pollution from Land-based Sources and Activities), and the International Coral Reef Initiative. Therefore, IPO will fund activities that implement best management practices that reduce or control runoff to near shore coral reef ecosystems in the Wider Caribbean; assess effectiveness of these management practices; engage stakeholders and government agencies in collaborative partnerships to implement these practices; and recommend a set of best management practices that can be applied to small island Caribbean systems.

2. Enhance Management Effectiveness of Marine Protected Areas (MPAs): The National Action Plan calls for strengthening the protection of resources within existing MPAs. NOAA has launched a strategic partnership with the World Conservation Union's (IUCN) World Commission on Protected Areas (WCPA) and World Wildlife Fund (WWF)International to improve the management of MPAs by providing managers, planners and other decision makers with methods for assessing the effectiveness of MPA sites. Therefore, IPO will fund activities at coral MPA sites that are building an adaptive management and evaluation program and will conduct an assessment of management effectiveness in order to strengthen and achieve the site goals and objectives.

3. Encourage Regional Approaches to Further No-Take Marine Reserves in the Wider Caribbean and Southeast Asia: The National Action Plan highlights the role that highly protected areas play in creating a network of coral marine protected areas for biodiversity, conservation and sustainable fisheries management. Through this program, IPO will fund regional level activities that benefit existing marine reserves in the Wider Caribbean and Southeast Asia. Southeast Asia shall be defined by Brunei, Cambodia, Indonesia, Laos, Malaysia, Philippines, Singapore, Thailand, and Vietnam. Furthermore, proposed regional level activities must involve sites in two or more countries and address the needs of no-take marine reserves in the regions as identified in the WCPA - Marine Caribbean Regional Coordination Plan and the WCPA-Marine Southeast Asia Regional Action Plan. The plans with the priority themes can be found at http://ipo.nos.noaa.gov/coralgrants.html.

4. Promote Socio-Economic Monitoring in Coral Reef Management: The National Action Plan highlights that the human dimension is often overlooked in developing coral reef management strategies and calls for measures to enhance understanding of stakeholder benefits and resolve important user conflicts. Recognizing the importance of the human dimension, the GCRMN published The Socioeconomic Manual for Coral Reef Management, in partnership with NOAA, WCPA, and the Australian Institute of Marine Science (AIMS), a guide to conducting socioeconomic assessments of reef user groups.

As follow-up, the GCRMN, WCPA-Marine and NOAA are working with ICLARM, the University of West Indies and other partners in the regions to develop socioeconomic monitoring programs specific to Southeast Asia and the Wider Caribbean. These regional programs include three key phases: (1) development of SocMon, i.e., standardized, simple socioeconomic monitoring guidelines for each region; (2) socioeconomic training workshops for reef managers to learn how to conduct SocMon, specifically how to establish socioeconomic monitoring programs at their sites; and, (3) establishment of socioeconomic monitoring programs at participants' coral reef management programs.

Under this project category, IPO will fund phase three - the establishment of socioeconomic monitoring programs at coral reef sites in Southeast Asia and the Wider Caribbean. Proposals for such work in the Wider Caribbean must utilize the SocMon-Wider Caribbean Guidelines; and similarly, proposals for work in Southeast Asia must utilize the SocMon-Southeast Asia Guidelines. For the purpose of this project category, Southeast Asia shall be defined as Brunei, Cambodia, Indonesia, Laos, Malaysia, Philippines, Singapore, Thailand, and Vietnam. Both sets of Guidelines can be found at http://ipo.nos.noaa.gov/coralgrants.html.

B. Eligibility Criteria

Eligible applicants include all international, governmental, and non-governmental organizations, including the Federated States of Micronesia, Republic of Palau, and the Republic of the Marshall Islands. Eligibility is also contingent upon whether activities undertaken with respect to the application would be consistent with any applicable conditions or restrictions imposed by the U.S. governments. Specific guidance for each International program project category is noted below:

1. Projects proposed under “Promote Watershed Management in Wider Caribbean Island Nations” must include:

a. Activities that support the implementation of the annexes of The Protocol concerning Pollution from Land Based Sources and Activities to the Cartagena Convention (for details, refer to http://ipo.nos.noaa.gov/coralgrants.html);

b. A letter of support from the government agency responsible for planning and development;

c. A project site which includes near shore fringing reef system (with description of project site uniqueness) that is impacted by agricultural runoff or intensive land-based development associated with tourism sector activities;

d. Evidence of local stakeholder support, for example, agricultural businesses, NGOs, tourism sector, and port facilities;

e. Demonstration of local or national potential for developing enforceable policies and mechanisms for long term watershed management; and,

f. Evidence of potential organizational capacity to promote coordination of governmental agencies and stakeholder involvement.

2. Projects proposed under “Enhance Management Effectiveness of Marine Protected Areas” must:

a. Incorporate the approach being developed by the WCPA-Marine/WWF International MPA Management Effectiveness Initiative. The approach can be found in the working draft of How is Your MPA Doing? Guidebook for Evaluating Effectiveness of MPA's posted at http://ipo.nos.noaa.gov/mgmteffect/guidebook.html.

In order to be selected, project sites must:

b. Have a management program in place, including a management plan, on-site staff, and infrastructure to carry out effectiveness assessments;

c. Be able to implement the guidebook to conduct a comprehensive assessment including use of indicators from each of the biophysical, socioeconomic and governance categories;

d. Demonstrate the intent to incorporate the assessment of indicators into management planning and review process; and,

e. Include a letter of support from the MPA managing authority or site supervisor, that also demonstrates the involvement of the authority/supervisor in the project if the agency is not proposing the work.

3. Projects proposed under “Encourage Regional Approaches to Further Marine Reserves in the Wider Caribbean and Southeast Asia” must:

a. Follow the themes of the Caribbean Regional Coordination Plan and the Southeast Asia Regional Action Plan posted at http://ipo.nos.noaa.gov/coralgrants.html;

b. Benefit sites in two or more countries in the region;

c. Involve managers from the reserves; and,

d. Include letters of support from the marine reserve management authorities from all sites that are involved in the project.

4. Projects proposed under “Promote Socio-Economic Monitoring in Coral Reef Management” must:

a. Demonstrate a link with an existing or planned marine resource management program (e.g., MPA, fisheries management, or coastal management program) with clearly defined socioeconomic goals as suggested in the SocMon Guidelines (e.g., improve livelihood, increase environmental awareness);

b. Include a letter of support from the marine resource management authority;

c. Describe the plan for socioeconomic monitoring, including preparatory activities, data collection and analysis and long-term monitoring after the first assessment. For Southeast Asia sites, the plan should reflect the variables and methods in the SocMon-Southeast Asia Guidelines. For the Wider Caribbean sites, the plan should reflect the variables and methods in SocMon-Caribbean Guidelines. Both SocMon-Caribbean and Southeast Asia Guidelines can be found at http://ipo.nos.noaa.gov/coralgrants.html.;

d. Include a social scientist that will be actively engaged in the socioeconomic monitoring, planning, data collection, and analysis either from staff or elsewhere (e.g., local university);

e. Demonstrate involvement of coral management staff in the proposed monitoring even if personnel not engaged in site-management are overseeing the monitoring; and,

f. Explain how the assessment team will translate the socioeconomic data into useful information for coral reef managers and decision makers (e.g., making written management recommendations to policy makers or managers, and presenting results and recommendations to management staff and other stakeholders).

C. Funding Availability and Mechanisms

1. Funding Availability

Approximately $300,000 will be available in FY 2003 to support grants and cooperative agreements under this program. Approximately $75,000 will be allocated to each of the four project categories listed below, with the following award ranges:

a. Watershed Management: Up to $75,000

b. Management Effectiveness: $20,000 - $40,000

c. Marine Reserves: $25,000 - $40,000

d. Socio-economic Monitoring: $15,000 - $25,000

Applications with requests of over $40,000 will not be accepted, except for the Watershed Management category. Funding will be subject to the availability of federal appropriations. Support in out-years after FY 2003 is contingent upon the availability of funds and any new guidance published in the Federal Register.

2. Funding Mechanism

Grants and cooperative agreements will be reviewed by the NOS International Program Office. Applicants may submit applications covering a 12-to 18-month period with an anticipated start date of October 1, 2003.

D. Matching Funds

The requirements for matching funds under section VIII(3) of the Guidance are applicable to Funding Availability under this program. Specific information to be submitted in regard to matching funds can be found in the Application Content and Format Section below.

E. Application Content and Format

1. Application Content

The four International program categories are priorities of the National Action Plan. Applicants may submit applications covering a 12-to 18-month period and must meet all applicable DOC grant requirements. Initial applications may be submitted by email, fax (301-713-4389), or express air courier and must be received by NOAA on or before the date established in the DATES section above. Federal financial assistance forms SF-424, SF-424A, SF-424B, CD-511, CD-512, and if applicable CD-346 and/or SF-LLL are not required until the applicant is notified and invited to submit a final application. One original and two signed complete hard copies of the jurisdiction's final application, including federal forms, must be received by NOAA on or before the due date established in the DATES section above.

2. Application Format

Each application must clearly describe the proposed work in 20 pages or less, including letters of support and attachments. Font size should be 12 point. Applications should not be bound or stapled, but can be bundled, for example, by rubber bands or binder clips. All applications, letters of support and attachments must be written in the English Language. Each application must include the following elements (a-d):

a. A cover sheet with the following information:

(1) Project Title;

(2) Applicant organization: nonprofit, university, government, etc.;

(3) Principal investigator or contact responsible for conducting the project;

(4) Contact information including address, phone number, fax and email;

(5) Program Category (i.e., International Coral Reef Conservation) and the appropriate International grant program project category from the following choices: Watershed Management, Management Effectiveness, Marine Reserves, or Socioeconomic Monitoring;

(6) Geographic location of project (countries and sites);

(7) Grant Request and matching funds; and,

(8) One paragraph project summary.

b. A description of the qualifications of the individual(s) who will conduct the project

c. Project Description which must address the specific project category eligibility criteria described in Part B. Eligibility Criteria above and also include:

(1) Project need;

(2) Objectives;

(3) Implementation strategy;

(4) Identification of how project fits into applicant (and site) strategy for management;

(5) Project products and outcomes;

(6) Partner justification and roles;

(7) A methodology to evaluate the success of the project;

(8) A Summary Budget that includes a detailed breakdown of costs by category and a description of the amount of matching funds available to the applicant, as described in section VIII(3) of this Guidance. Intended sources of matching funds and whether they have been secured must be stated in the application. The application must also state whether the project has been submitted for funding consideration elsewhere. Applicants whose applications are recommended for funding will be required to submit with the final application, letter(s) of commitment to fund from the organization(s) providing matching funds; and,

(9) Task timetable with interim benchmarks linked to clearly defined work projects.

d. Evidence of support for the project from the local management authority where the work is conducted at specific sites must indicate that the project supports local management objectives. In those cases where training is proposed, indication that participants will apply these techniques at their local sites is requested. Please include evidence of coordination with relevant national and regional project partners, including a list of agencies consulted in developing the proposal and assurances that any necessary permits will be secured prior to the use of U.S. Federal funds.

F. Application Evaluation and Selection Criteria

1. Evaluation Criteria

IPO will provide for a merit-based peer review and standardized documentation of that review for proposals that meet the eligibility requirements. Each application will be reviewed by a minimum of three individuals with knowledge of the subject of the proposal. Each reviewer will submit a separate and individual review and reviewers will not provide a consensus opinion. The identities of the peer reviewers will be kept anonymous to the degree permitted by law. Peer reviewers will apply the following equally weighted evaluation criteria:

a. Documented need for the proposed coral reef activity in the jurisdiction;

b. Demonstrated coordination with applicable ongoing national and regional reef management activities;

c. Technical merit of the proposed activity;

d. Ability of the work to be completed for the funding and timing proposed; and,

e. Evidence presented of the capacity of the applicant to conduct the proposed work, including past performance on similar projects or programs involving coral reef ecosystems.

NOAA may also request and consider written comments on proposed projects from agencies with jurisdiction over coral reef ecosystems in the area where the project is to be conducted, as described in Section X(1) of the Guidelines. Under the international grant program, NOAA will request and consider written comments on the proposal from relevant U.S. government agencies such as the Agency for International Development and Department of the Interior; foreign governments and their coral management agencies; and other international entities as necessary. Each entity will be provided 21 days to review and comment on subject proposals. Comments submitted will be part of the public record.

2. Selection Criteria

IPO will then review the applications, consistent with the equally weighted criteria listed in Section X(3) of the Guidelines, taking into consideration comments received from peer, agency, and jurisdiction reviewers. Based on these reviews, IPO will rank order the applications, and provide preliminary funding recommendations, and summary comments on each selected proposal to each applicant. These comments will include input from peer reviewers, agencies, jurisdictions, and IPO, and are intended to be used in the applicant's development of the final proposal.

Upon receipt of the final application, complete with the requisite Federal forms, IPO will review the complete package and make final funding recommendations based on the incorporation of, and response to, comments that were returned to the applicant. IPO will submit these funding recommendations to the NOAA review panel for final review, pursuant to Section X(4) of the Guidelines to ensure that the Coral Reef Conservation Act requirements for geographic funding distribution and consistency with the overall program goals outlined in the Strategy.

G. Program Authority

Specific authority for this program is found in 16 U.S.C. 6403. Grants and cooperative agreements will be reviewed and awarded by the NOS International Program Office under title, Habitat Conservation, CFDA: 11.463.

VIII. General Information for All Applicants

A. Indirect Costs

The budget may include an amount for indirect costs if the applicant has an established indirect cost rate with the Federal government. Indirect costs are essentially overhead costs for basic operational functions (e.g., lights, rent, water, insurance) that are incurred for common or joint objectives and, therefore, cannot be identified specifically within a particular project. For this solicitation, the Federal share of the indirect costs awarded will not exceed the lesser of either the indirect costs the applicant would be entitled to if the negotiated Federal indirect cost rate were used or 25 percent of the Federal direct costs proposed. For those situations in which the use of the applicant's indirect cost rate would result in indirect costs greater than 25 percent of the Federal direct costs proposed, the difference may be counted as part of the non-Federal share. A copy of the current, approved negotiated indirect cost agreement with the Federal Government should be included with the application. If the applicant does not have a current negotiated rate and plans to seek reimbursement for indirect costs, documentation necessary to establish a rate must be submitted within 90 days of receiving an award.

B. Performance and Financial Reports

Recipients receiving funding will be required to submit semiannual performance reports and copies of all products that are developed under the award. The specific information, products, or data contained in the performance report can be determined by the NOAA office responsible for the program and applicant in pre-award negotiations or, the recipient will submit performance reports according to the Department of Commerce, Financial Assistance Standard Terms and Conditions. Performance report will be submitted to the NOAA office responsible for the program.

Unless otherwise authorized, semi-annual financial reports will be submitted in accordance with the Department of Commerce, Financial Assistance Standard Terms and Conditions t the Grants Officer at NOAA GMD.

C. Matching Funds

For ease of reference, the matching funds requirements described in section VIII of the Guidelines have been included here. With the exception of section VI. Projects to Improve or Amend Coral Reef Fishery Management Plans, all other program areas are subject to the matching fund requirements stated here, pursuant to section VIII of the Guidelines.

As per section 6403(b)(1) of the Coral Reef Conservation Act of 2000, Federal funds for any coral conservation project funded under this Program may not exceed 50 percent of the total cost of the projects. The matching funds may comprise a variety of public and provide sources and can include in-kind contributions and other non-cash support. NOAA strongly encourages applicants to leverage as much investment as possible. Federal funds may not be considered as matching funds.

As per section 6403(b)(2) of the Conservation Act, the NOAA Administrator may waive all or part of the matching requirement if the Administrator determines that the project meets the following two requirements;

1. No reasonable means are available through which an applicant can meet the matching requirement, and

2. The probable benefit of such project outweighs the public interest in such matching requirement.

Applicants must specify in their proposal the source and may be asked to provide letters of commitment to confirm stated contributions. In the case of a waiver request, the applicant must provide a detailed justification explaining the need for the waiver including attempts to obtain sources of matching funds, how the benefit of the project outweighs the public interest in providing match and any other extenuating circumstances preventing the availability of match.

Notwithstanding any other provisions herein, and in accordance with 48 U.S.C. 1469a(d), the Program shall waive any requirement for local matching funds for any project under $200,000 (including in-kind contribution) to the governments of Insular Areas, defined as the jurisdictions of the U.S. Virgin Islands, Guam, American Samoa, and the Commonwealth of the Northern Marina Islands.

D. General Information

If an application is selected for funding, NOAA has no obligation to provide any additional prospective funding in connection with that award in subsequent years. Any subsequent proposal to continue work on an existing project must be submitted to the competitive process for consideration and will not receive preferential treatment. Renewal of an award to increase funding or to extend the period of performance is at the total discretion of NOAA.

Unsuccessful applications will be destroyed and not returned to the applicant.

The recipients must comply with Executive Order 12906 regarding any and all geospatial data collected or produced under grants or cooperative agreements. This includes documenting all geospatial data in accordance with the Federal Geographic Data Committee Content Standard for digital geospatial data.

Classification

This Program will be added to the Catalog of Federal Domestic Assistance under the Coastal Zone Management Act (11.419), Financial Assistance for National Centers for Coastal Ocean Science (11.426), and Habitat Conservation (11.463). The Program uses only the existing NOAA Federal financial assistance awards package requirements per 15 CFR parts 14 and 24.

The Department of Commerce Pre-Award Notification of Requirements for Grants and Cooperative Agreements contained in the Federal Register Notice of October 1, 2001 (66 FR 49917), as amended by the Federal Register notice published on October 30, 2002 (67 FR 66109), is applicable to solicitation. The program will determine National Environmental Policy Act (NEPA) compliance on a project by project basis.

Executive Order 12866

This action has been determined to be “not significant” for purposes of Executive Order 12866, Regulatory Planning and Review.”

Executive Order 12372

Applications under this program are subject to Executive Order 12372, “Intergovernmental Review of Federal Programs.”

Paperwork Reduction Act

Notwithstanding any other provision of law, no person is required to respond to, nor shall any person be subject to a penalty for failure to comply with a collection-of-information, subject to the requirements of the Paperwork Reduction Act, 44 U.S.C. 3501 et seq., unless that collection of information displays a currently valid OMB control number. Forms SF-424, SF-424A, SF-424B, and SF-LLL and CD-346 have been approved by OMB under the respective control numbers 0348-0043, 0348-0044, 0348-0040, 0348-0046 and 0605-0001, respectively.

This notice also contains a collection-of-information requirement subject the Paperwork Reduction Act and which has been approved by OMB under control number 0648-0448. The public reporting burden is estimated to average one hour per response for comments on a proposed project from each agency with jurisdiction over coral reef ecosystems in the area where the project is to be conducted and one hour per response for a request for a waiver of matching funds. This estimate includes the time for reviewing instructions, searching existing data sources, gathering and maintaining the data needed, and completing and reviewing the collection of information. Send comments regarding this burden estimate, or any other aspect of these data collections, including suggestions for reducing the burden, to the NOAA Office of Response and Restoration, N/ORR, National Ocean Service, 1305 East-West Highway, Silver Spring, MD 20910.

Notice and Comment are not required under 5 U.S.C. 553(a)(2), or any other law, for rules relating to public property, loans, grants, benefits or contract. Because notice and comment are not required, a regulatory flexibility analysis is not required and has not been prepared for this notice 5 U.S.C. 601 et seq.

Dated: January 13, 2003.
Jamison S. Hawkins,
Acting Assistant Administrator for National Ocean Service.

[FR Doc. 03-1153 Filed 1-16-03; 8:45 am]

BILLING CODES 3510-JE-S and 3510-22-S